FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR 515). Notice is also hereby given of the filing of applications to amend an existing OTI license or the Qualifying Individual (QI) for a license.

Interested persons may contact the Office of Transportation Intermediaries, Federal Maritime Commission, Washington, D.C. 20573, by telephone at (202) 523-5843 or by e-mail at OTI@fmc.gov.

APLUS Worldwide Logistics, Corp. (NVO & OFF), 2129 NW., 79th Avenue, Doral, FL 33122. Officer: Alexis E. Parejo, President/Secretary/Treasurer. (Qualifying Individual). Application Type: Add NVO Service.

AtsaCargo, Inc. (NVO & OFF), 2624 NW., 112th Avenue, Miami, FL 33172. Officers: Arcenio T. Nunez, Vice President. (Qualifying Individual) Arsenio T. Matos, President. Application Type: Add NVO Service.

Bayanihan Cargo International Inc. (NVO), 925 Linden Avenue, Unit #D, South San Francisco, CA 94080. Officers: Manuel A. Espinosa, President. (Qualifying Individual) Amparo A. Espinosa, Vice President. Application Type: New NVO License.

Cargo One Inc. dba Cargo One (NVO), 287 Northern Boulevard, #204, Great Neck, NY 11021. Officers: Yoji Kurita, Chief Executive Officer/Secretary. (Qualifying Individual) Akira Tsuneda, Director/COB. Application Type: QI Change.

Contour Logistics Inc. (NVO & OFF), 2950 Turnpike Drive, #19, Hatboro, PA 19040. Officer: Vera Sumetskaya, President. (Qualifying Individual) Application Type: Add NVO Service.

Da-Wood Trading LLC (NVO & OFF), 110 Godley Road, Port Wentworth, GA 31407. Officer: Francis Lucas, CEO. (Qualifying Individual) Application Type: New NVO & OFF License.

DVN Carriers, LLC (NVO), 4747 Bellaire Blvd., Suite 275, Bellaire, TX 77401. Officer: Charles R. Griswold, President/Manager. (Qualifying Individual) Application Type: Business Structure Change & QI Change.

eShipping, LLC (OFF), 173 English Landing Drive, Suite 210, Parkville, MO 64152. Officers: Matthew P. Weiss, Vice President, (Qualifying Individual) Chad Earwood, Manager, President. Application Type: New OFF License.

GAC Energy & Marine Services LLC (NVO & OFF), 16607 Central Green Blvd., #200, Houston, TX 77032. Officers: Yalonda R. Henderson, Vice President (Operations). (Qualifying Individual) Walter Bandos, CEO. Application Type: Add NVO Service.

Multimodal International Shipping, Inc. dba Masterpiece Ocean, Freight Ltd. (NVO & OFF), 615 N. Nash Street, Suite 300, El Segundo, CA 90245. Officers: Michael P. Ambrosia, Secretary. (Qualifying Individual) David G. Epstein, Director/President. Application Type: QI Change.

Ron Logistics, Inc. (NVO & OFF), 6617 NW. 84th Avenue., Miami, FL 33166. Officers: Jose A. Ron, Director. (Qualifying Individual) Rita D. De Ron, Director. Application Type: New NVO & OFF License.

TRC Transport Intl, Corp. (NVO & OFF), 4775 NW. 72nd Avenue, Miami, FL 33166. Officers: Arcenio Taveras Nunez, President. (Qualifying Individual) Dora Taveras, Vice President/Secretary. Application Type: New NVO & OFF License.

Dated: September 19, 2011.
Karen V. Gregory,
Secretary.

[FR Doc. 2011-24414 Filed 9-22-11; 8:45 am]

BILLING CODE 6730-01-P